GENERAL SERVICES ADMINISTRATION

Notice of Intent to Prepare an Environmental Impact Statement

AGENCY: General Services Administration (GSA), National Capital Region.

ACTION: Notice.

SUMMARY: Pursuant to the requirements of the National Environmental Policy Act of 1969 (NEPA) , 42 U.S.C. § 4321-4347, the Council on Environmental Quality Regulations (40 CFR parts 1500—1508), GSA Order PBS P 1095.1F (Environmental considerations in decision-making, dated October 19, 1999), and the GSA Public Buildings Service NEPA Desk Guide, GSA plans to prepare an Environmental Impact Statement (EIS) for the proposed Master Plan for the redevelopment of the St. Elizabeths (St. Es) West Campus in Southeast Washington, DC. GSA has initiated consultation under Section 106 of the National Historic Preservation Act, 16 U.S.C. § 470f, for the proposed Master Plan.

FOR FURTHER INFORMATION CONTACT: Denise Decker, NEPA Lead, General Services Administration, National Capital Region, at (202) 205-5821. Also, call this number if special assistance is needed to attend and participate in the scoping meeting.

SUPPLEMENTARY INFORMATION: The notice of intent is as follows:

Notice of Intent To Prepare an Environmental Impact Statement for the Proposed Master Plan for the Redevelopment of the St. Elizabeths West Campus in Southeast Washington, DC

The General Services Administration intends to prepare an Environmental Impact Statement (EIS) to analyze the potential impacts resulting from adoption and implementation of a Master Plan to redevelop the St. Elizabeths (St. Es) West Campus in Southeast Washington, DC. GSA's primary purpose for this proposed action is to develop secure office space in the District of Columbia to accommodate substantial Federal operations.

Background

The St. Es West Campus, formerly a mental health facility, consists of 176 acres and 61 buildings constructed between the 1850s and the 1960s. The buildings contain approximately 1.1 million gross square feet of space. The entire site, including the brick wall running along Martin Luther King Jr. Avenue, is a National Historic Landmark. The St. Es West Campus also contains a Civil War cemetery. From 1953 to December 2004, St. Es West Campus was controlled by the U.S. Department of Health and Human Services (HHS).

GSA has identified a need to redevelop the West Campus because (i) there is an immediate need for secure Federal office space in the National Capital Region; (ii) the site is within the District of Columbia boundary and proximate to the Central Employment Area (CEA); and (iii) the existing site is currently underutilized.

To implement this redevelopment, GSA is preparing a Master Plan that will guide the long-term use and redevelopment of the St. Es West Campus.

Alternatives Under Consideration

GSA will analyze a range of Master Plan alternatives for the St. Es West Campus. In addition, as required by NEPA, GSA will study the no action alternative under which a Master Plan will not be adopted and the site will remain in its current state. As part of the EIS, GSA will study the impacts of each alternative on the human environment.

Scoping Process

In accordance with NEPA, a scoping process will be conducted to (i) aid in determining the alternatives to be considered and the scope of issues to be addressed, and (ii) identify the significant issues related to the proposed Master Plan for the redevelopment of the St. Es West Campus. Scoping will be accomplished through a public scoping meeting, direct mail correspondence to potentially interested persons, agencies, and organizations, and meetings with agencies having an interest in the proposed Master Plan. It is important that Federal, regional, and local agencies, and interested individuals and groups take this opportunity to identify environmental concerns that should be addressed during the preparation of the Draft EIS.

GSA is also using the NEPA scoping process to facilitate consultation with the public under Section 106 of the National Historic Preservation Act (36 CFR Part 800 [Protection of Historic Properties]). GSA welcomes comments from the public to ensure that it takes into account the effects of its action on historic and cultural resources.

Public Scoping Meeting

The public scoping meeting will be held on Tuesday, June 14, 2005, from 6:00 p.m. to 8:30 p.m., at Birney Elementary School (Auditorium), located at 2501 Martin Luther King Jr. Avenue in Southeast Washington, DC. The meeting will be an informal open house, where visitors may come, receive information, and give comments. GSA will publish notices in the Washington Post, Washington Times, and a local community newspaper announcing this meeting approximately two weeks prior to the meeting. GSA will prepare a scoping report, available to the public that will summarize the comments received for incorporation into the EIS and Section 106 processes.

Written Comments: Agencies and the public are encouraged to provide written comments on the scoping issues in addition to or in lieu of giving their comments at the public scoping meeting. Written comments regarding the environmental analysis for the redevelopment of the St. Es West Campus must be postmarked no later than July 5, 2005, and sent to the following address: General Services Administration, National Capital Region, Attention: Denise Decker, NEPA Lead, 301 7th Street, SW, Room 7600, Washington, DC 20407. Fax (202) 708—7671. denise.decker@gsa.gov.

Dated: May 31, 2005.
Patricia T. Ralston,
Acting Director, Portfolio Management.

[FR Doc. 05-11242 Filed 6-6-05; 8:45 am]

BILLING CODE 6820-23-S